DEPARTMENT OF ENERGY

Federal Energy Regulatory Commission

Combined Notice of Filings #1

Take notice that the Commission received the following electric rate filings:

Docket Numbers: ER20-2148-004.

Applicants: Lexington Chenoa Wind Farm LLC.

Description: Refund Report: Refund Report Under Docket ER20-2148-000 to be effective N/A.

Filed Date: 9/23/21.

Accession Number: 20210923-5041.

Comment Date: 5 p.m. ET 10/14/21.

Docket Numbers: ER20-2446-004.

Applicants: Bitter Ridge Wind Farm, LLC.

Description: Refund Report: Refund Report Under Docket ER20-2446-000 to be effective N/A.

Filed Date: 9/23/21.

Accession Number: 20210923-5042.

Comment Date: 5 p.m. ET 10/14/21.

Docket Numbers: ER20-2503-003.

Applicants: Paulding Wind Farm IV LLC.

Description: Refund Report: Refund Report Under Docket ER20-2503 to be effective N/A.

Filed Date: 9/23/21.

Accession Number: 20210923-5051.

Comment Date: 5 p.m. ET 10/14/21.

Docket Numbers: ER20-2953-003.

Applicants: Lone Tree Wind, LLC.

Description: Refund Report: Refund Report Under Docket ER20-2953 to be effective N/A.

Filed Date: 9/23/21.

Accession Number: 20210923-5053.

Comment Date: 5 p.m. ET 10/14/21.

Docket Numbers: ER21-2570-001.

Applicants: TC Energy Marketing Inc.

Description: Tariff Amendment: Amended MBR Tariff and Application (ER21-2570-) to be effective 9/30/2021.

Filed Date: 9/23/21.

Accession Number: 20210923-5097.

Comment Date: 5 p.m. ET 10/14/21.

Docket Numbers: ER21-2925-000.

Applicants: Grand Ridge Energy LLC.

Description: Initial rate filing: Filing of Reactive Power Rate Schedule to be effective 11/1/2021.

Filed Date: 9/23/21.

Accession Number: 20210923-5111.

Comment Date: 5 p.m. ET 10/14/21.

Docket Numbers: ER21-2926-000.

Applicants: Caddo Wind, LLC.

Description: § 205(d) Rate Filing: Supplement to Application for Market-Based Rate Authorization to be effective 10/11/2021.

Filed Date: 9/23/21.

Accession Number: 20210923-5113.

Comment Date: 5 p.m. ET 10/14/21.

Docket Numbers: ER21-2927-000.

Applicants: Optimum Power Investments, LLC.

Description: Tariff Amendment: Notice of Cancellation to be effective 9/30/2021.

Filed Date: 9/23/21.

Accession Number: 20210923-5118.

Comment Date: 5 p.m. ET 10/14/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2021.
Kimberly D. Bose,
Secretary.

[FR Doc. 2021-21149 Filed 9-28-21; 8:45 am]

BILLING CODE 6717-01-P